DEPARTMENT OF DEFENSE

Department of the Air Force

HQ USAF Scientific Advisory Board

AGENCY: Department of the Air Force, DoD.

ACTION: Notice of meeting.

SUMMARY: Pursuant to Public Law 92-463, notice is hereby given of the forthcoming meeting of the Predictive Battlespace Awareness (PBA) Study Information Integration Panel. The purpose of the meeting is to allow the SAB and study leadership to gather information from the National Defense University related to PBA information integration. Because of the meeting classification level, this meeting will be closed to the public.

DATES: 21 May 2002, 0900-1300L.

ADDRESSES: National Defense University, George Marshall Hall, Bldg 62, Ft McNair, Washington DC.

FOR FURTHER INFORMATION CONTACT: Colonel Marian Alexander, Air Force Scientific Advisory Board Secretariat, 1180 Air Force Pentagon, Rm 5D982, Washington DC 20330-1180, (703) 697-4811.

Pamela D. Fitzgerald,
Air Force Federal Register Liaison Officer.

[FR Doc. 02-10976 Filed 5-2-02; 8:45 am]

BILLING CODE 5001-05-P